DEPARTMENT OF HEALTH AND HUMAN SERVICES

Centers for Disease Control and Prevention

Statement of Organization, Functions, and Delegations of Authority

Part C (Centers for Disease Control and Prevention) of the statement of Organization, Functions, and Delegations of Authority of the Department of Health and Human Services (45 FR 67772-76, dated October 14, 1980, and corrected at 45 FR 69296, October 20, 1980, as amended most recently at 70 FR 46527-46530, dated August 10, 2005) is amended to reflect the establishment of the Coordinating Center for Infectious Diseases at the Centers for Disease Control and Prevention.

Section C-B, Organization and Functions, is hereby amended as follows:

After the mission statement for the Centers for Disease Control and Prevention (C), insert the following:

Coordinating Center for Infectious Diseases (CV). The mission of the Coordinating Center for Infectious Diseases (CCID) is to protect health and enhance the potential for full, satisfying and productive living across the lifespan of all people in all communities related to infectious diseases.

To carry out its mission, CCID: (1) Fosters collaborations, partnerships, integration, and resource leveraging to increase CDC's health impact and achieve population health goals; (2) helps investigate and diagnose infectious diseases of public health significance; (3) coordinates applied and operational research to define, prevent, and control infectious diseases; (4) assists in providing consultation and training to help state and local health departments plan, develop, implement and improve immunization programs; (5) coordinates research and operational programs to prevent and control vaccine-preventable diseases; (6) assists in providing technical assistance to states, localities, and other nations to investigate and diagnose sexually transmitted diseases (STDs), tuberculosis (TB), human immunodeficiency virus (HIV) infections, and retroviruses; and coordinates applied and operational research on the spread, diagnosis, prevention and control of HIV, other STDs, TB, and non-TB mycobacteria, and non-HIV retroviruses.

Office of the Director (CVA). Manages, coordinates, and evaluates the activities of the CCID; (2) communicates overarching goals and objectives and provides leadership, scientific oversight and guidance in program planning and development; (3) coordinates assistance provided by CCID to other CDC components, other federal, state, and local agencies, the private sector and other nations; (4) provides and coordinates resource management support services for CCID, (e.g., for grants, cooperative agreements, and other assistance mechanisms); (5) coordinates workforce development activities within CCID and coordinates the recruitment, assignment, technical supervision, and career development of staff, with emphasis on goals for equal employment opportunity and diversity where appropriate; (6) assists in the development and implementation of a comprehensive communication program for CCID, assuring that the center's health information is accurately and appropriately represented to a diversity of constituencies and ensuring integration with CDC-wide communications activities; (7) provides liaison with other governmental agencies, international organizations, and outside groups representing the infectious disease activities of CDC; and, (8) collaborates as appropriate with other coordinating centers, offices, and institutes of CDC, other public health service agencies, and other federal agencies.

Dated: August 10, 2005.
William H. Gimson,
Chief Operating Officer, Centers for Disease Control and Prevention (CDC).

[FR Doc. 05-17074 Filed 8-26-05; 8:45 am]

BILLING CODE 4160-18-M